NUCLEAR REGULATORY COMMISSION

[Docket No. 50-443-LA; ASLBP No. 08-872-02-LA-BD01]

FPL Energy Seabrook LLC; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

FPL Energy Seabrook LLC

(Seabrook Station, Unit 1)

This proceeding involves a license amendment request from FPL Energy Seabrook LLC proposing a revision to the Technical Specifications for Seabrook Station, Unit 1 in Rockingham County, New Hampshire. In response to an August 26, 2008 Notice of Consideration of Issuance of Amendments to Facility Operating Licenses, Proposed No Significant Hazards Consideration Determination, and Opportunity for a Hearing (73 FR 50,356, 50,361), a request for hearing has been submitted by Thomas Saporito on behalf of himself and Saporito Energy Consultants.

The Board is comprised of the following administrative judges:

William J. Froehlich, Chairman, Atomic Safety and Licensing Board Panel, U.S. Nuclear Regulatory Commission, Washington, DC 20555-0001.

E. Roy Hawkens, Atomic Safety and Licensing Board Panel, U.S. Nuclear Regulatory Commission, Washington, DC 20555-0001.

Thomas S. Elleman, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 8th day of September 2008.
E. Roy Hawkens,
Chief Administrative Judge, Atomic Safety and Licensing Board Panel.

[FR Doc. E8-21278 Filed 9-11-08; 8:45 am]

BILLING CODE 7590-01-P